DEPARTMENT OF VETERANS AFFAIRS

[OMB Control No. 2900-0525]

Agency Information Collection Activity under OMB Review: VA MATIC ENROLLMENT/CHANGE

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by March 16, 2026.

ADDRESSES: To submit comments and recommendations for the proposed information collection, please type the following link into your browser: www.reginfo.gov/public/do/PRAMain, select “Currently under Review—Open for Public Comments”, then search the list for the information collection by Title or “OMB Control No. 2900-0525.”

FOR FURTHER INFORMATION CONTACT: VA PRA information: Dorothy Glasgow, (202) 461-1084, VAPRA@va.gov.

SUPPLEMENTARY INFORMATION:

Title: VA MATIC ENROLLMENT/CHANGE (VA Form 29-0165).

OMB Control Number: 2900-0525 https://www.reginfo.gov/public/do/PRASearch.

Type of Review: Extension without change of a currently approved collection.

Abstract: The form is used by the insured to enroll or change the account number and/or bank from which a VA MATIC deduction was previously authorized. The information requested is authorized by law, 38 U.S.C. 1908.

An agency may not conduct or sponsor, and a person is not required to respond to a collection of information unless it displays a currently valid OMB control number. The Federal Register Notice with a 60-day comment period soliciting comments on this collection of information was published at 90 FR 57285 on December 10, 2025.

Affected Public: Individuals or Households.

Estimated Annual Burden: 417.

Estimated Average Burden per Respondent: 15 minutes.

Frequency of Response: On occasion.

Estimated Number of Respondents: 5,000.

(Authority: 44 U.S.C. 3501 et seq.)

Dorothy Glasgow,
Acting, VA PRA Clearance Officer, Office of Information Technology, Data Governance Analytics, Department of Veterans Affairs.

[FR Doc. 2026-02945 Filed 2-12-26; 8:45 am]

BILLING CODE 8320-01-P